Title 3—

The President

Proclamation 10532 of March 20, 2023

National Agriculture Day, 2023

By the President of the United States of America

A Proclamation

American farms remind us of the beauty and generosity of our Nation. They feed the country and the world, and with each new planting season, they embody that most American of things—possibilities. On National Agriculture Day, we celebrate all the farmers, farmworkers, ranchers, fishers, foresters, and other agricultural workers who do so much to make our Nation strong, fuel our economy, and steward our lands. America owes them.

There is a common spirit across America's agricultural community: a respect for tradition, a drive to innovate, and a commitment to never giving up—even when the going gets tough. Small farmers, ranchers, and meat processors also face many challenges. Extreme weather, made worse by the climate crisis, is destroying crops and decimating herds. Markets for seeds, feed, and fertilizer are dominated by a few large companies, raising the cost of doing business. Corporate consolidation has reduced what small producers can get in exchange for their crops and livestock, lowering farmer incomes and workers' paychecks. Too many feel forced to give up farms that their families spent generations growing. A lack of competition has distorted the market.

I have often said that capitalism without competition is not capitalism—it is exploitation. My Administration is working to promote fair competition across our economy, including in agriculture. We are encouraging antitrust agencies to focus on anti-competitive practices in agricultural markets. We are working to secure the so-called “right to repair” so farmers can fix their own machinery and tractors, rather than being required to send them back to the manufacturer. We are making it easier for farmers to bring claims against exploitative poultry processors, and the American Rescue Plan has invested $1 billion to help smaller meat processors expand operations.

To ease rising costs, we are also investing $500 million in domestic independent fertilizer production and expanding crop insurance to support more farmers who are willing to risk double cropping. The Bipartisan Infrastructure Law is rebuilding roads, bridges, railways, and ports and is expanding broadband, particularly in rural areas, which will transform supply chains. The Inflation Reduction Act is investing a historic $40 billion in climate-smart agriculture and other programs that can help producers stay on their lands, including approximately $18 billion for conservation and easements and $3.1 billion in relief for distressed borrowers. The Act also dedicates resources to help address generations of systemic discrimination that have denied farmers of color equal access to opportunities and credit.

We will also keep fighting for the farm and food workers who form the backbone of our economy, working with unions to improve workforce training and workplace safety—whether on farms and ranches, at processing or packing plants, or in delivery and food preparation. Every worker is entitled to fair pay, safe conditions, and the free and fair choice to join a union. That includes the large portion of agricultural workers who are undocumented, many of whom have built lives and worked here for decades. In return for all that they have done to keep America running, undocumented farmworkers should have a pathway to citizenship. Our economy needs them, and they deserve dignity and respect.

NOW, THEREFORE, I, JOSEPH R. BIDEN JR., President of the United States of America, by virtue of the authority vested in me by the Constitution and the laws of the United States, do hereby proclaim March 21, 2023, as National Agriculture Day. I call upon all Americans to join me in recognizing and reaffirming our commitment to and appreciation for our country's farmers, farmworkers, ranchers, fishers, foresters, and all those who work in the agriculture sector across the Nation.

IN WITNESS WHEREOF, I have hereunto set my hand this twentieth day of March, in the year of our Lord two thousand twenty-three, and of the Independence of the United States of America the two hundred and forty-seventh.

[FR Doc. 2023-06106

Filed 3-22-23; 8:45 am]

Billing code 3395-F3-P